DEPARTMENT OF JUSTICE

Office of Justice Programs

[OJP (OJP) Docket No. 1804]

Notice of Charter Renewal of the Global Justice Information Sharing Initiative Advisory Committee (GAC)

AGENCY: Office of Justice Programs (OJP), Justice.

ACTION: Notice of charter renewal.

SUMMARY: Notice that the charter of the Global Justice Information Sharing Initiative Advisory Committee (GAC) has been renewed.

FOR FURTHER INFORMATION CONTACT: Visit the website for the Advisory Committee at https://bja.ojp.gov/program/it/global or contact David P. Lewis, Designated Federal Official (DFO), BJA, by telephone at (202) 616-7829 (not a toll-free number) or via email: david.p.lewis@usdoj.gov.

SUPPLEMENTARY INFORMATION: This Federal Register Notice notifies the public that the Charter of the Global Justice Information Sharing Initiative Advisory Committee (GAC) has been renewed in accordance with the Federal Advisory Committee Act, Section 14(a)(1). The renewal Charter was signed by U.S. Deputy Attorney General Lisa O. Monaco on July 9, 2022. One can obtain a copy of the renewal Charter by accessing the Global Justice Information Sharing Initiative Advisory Committee (GAC)'s website at https://bja.ojp.gov/sites/g/files/xyckuh186/files/media/document/fy22globalcharter_signed_071922.pdf.

David P. Lewis,
Designated Federal Official for GAC, Bureau of Justice Assistance, Office of Justice Programs.

[FR Doc. 2022-18109 Filed 8-22-22; 8:45 am]

BILLING CODE 4410-18-P